FEDERAL MARITIME COMMISSION

Ocean Transportation Intermediary License Applicants

Notice is hereby given that the following applicants have filed with the Federal Maritime Commission applications for licenses as Non-Vessel Operating Common Carrier and Ocean Freight Forwarder—Ocean Transportation Intermediaries pursuant to section 19 of the Shipping Act of 1984 as amended (46 U.S.C. app. 1718 and 46 CFR 515).

Persons knowing of any reason why any of the following applicants should not receive a license are requested to contact the Office of Freight Forwarders, Federal Maritime Commission, Washington, D.C. 20573.

Non-Vessel-Operating Common Carrier Ocean Transportation Intermediary Applicants:

Trans-World Freight Systems Inc., 10505 N.W. 27th Street, Miami, FL 33172. Officers: Jorge L. Loy, Vice President (Qualifying Individual), Guillermo Roldan, President.

Cargomania International, Inc., 161-15 Rockaway Blvd., Suite 102, Jamaica, NY 11434. Officer: Ki Bok Sung, President (Qualifying Individual).

Yatari Express Int'l Inc., 939 S. Atlantic Blvd., Suite 212, Monterey Park, CA 91754. Officer: Ing-Jy Chen, Secretary (Qualifying Individual), Kuang-I Kuo, President.

Masters Freight Line, Inc., 118 E. Savarona Way, Carson, CA 90746. Officer: Young Rok Choi, President (Qualifying Individual).

Ocean Freight Forwarders—Ocean Transportation Intermediary Applicants:

CDC Worldwide, Inc., 3505 Cadillac Avenue, Bldg. G, Suite 107-A, Costa Mesa, CA 92626. Officer: Costa Da Costa, President (Qualifying Individual).

Kalem Freight Forwarding, Inc., 10505 N.W. 27th Street, Unit 2, Miami, FL 33172. Officers: Jorge L. Loy, President (Qualifying Individual), Roberto Malca, Vice President.

Southwest Visions, LLC d/b/a Trade Visions International, 1799 Euclid Avenue, No. 12, Berkeley, CA 94709. Officers: Ikuko H. Corbett, Manager (Qualifying Individual), Miyako Baizer, Member.

Bryant L. VanBrakle,
Secretary.

[FR Doc. 00-1397 Filed 1-19-00; 8:45 am]

BILLIING CODE 6730-01-P